DEPARTMENT OF TRANSPORTATION

Federal Aviation Administration

59th Meeting: RTCA Special Committee 135, Environmental Conditions and Test Procedures for Airborne Equipment

AGENCY: Federal Aviation Administration (FAA), U.S. Department of Transportation (DOT).

ACTION: Notice of meeting RTCA Special Committee 135, Environmental Conditions and Test Procedures for Airborne Equipment.

SUMMARY: The FAA is issuing this notice to advise the public of the fifty-ninth meeting of RTCA Special Committee 135, Environmental Conditions and Test Procedures for Airborne Equipment.

DATES: The meeting will be held April 19, 2012, from 9 a.m.-5 p.m.

ADDRESSES: The meeting will be held at National Center for Aviation Training, 4004 N. Webb Rd., Wichita, KS 67226.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C. App.), notice is hereby given for a meeting of Special Committee 135. The agenda will include the following:

April 19, 2012

• Chairmen's Opening Remarks, Introductions

• Introduce FAA Representative

• Approval of Summary from the Fifty-Eighth Meeting—(RTCA Paper No. 025-12/SC135-687)

• Review proposed User's Guide

• Section 9

• Section 15

• Review Working Group activities

• Section 4

• Section 5

• Section 16

• Section 20

• Section 21

• Section 22

• Section 23

• RTCA Workspace Presentation

• New/Unfinished Business

• Errata Sheet

• Change Proposal Form User's Guide

• Change Proposal Form Rev H

• Schedule for User's Guide

• FAA TSO Template

• Establish Date for Next SC-135 Meeting

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on March 8, 2012.
John Raper,
Manager, Business Operations Branch, Federal Aviation Administration.

[FR Doc. 2012-6348 Filed 3-14-12; 8:45 am]

BILLING CODE 4910-13-P